DEPARTMENT OF HEALTH AND HUMAN SERVICES

National Institutes of Health

Center for Scientific Review; Amended Notice of Meeting

Notice is hereby given of a change in the meeting of the Center for Scientific Review Special Emphasis Panel, June 13, 2006, 3 p.m. to June 13, 2006, 4:30 p.m., National Institutes of Health, 6701 Rockledge Drive, Bethesda, MD 20892 which was published in the Federal Register on May 5, 2006, 71 FR 26550-26552.

The meeting will be held on June 15, 2006. The meeting time and location remain the same. The meeting is closed to the public.

Dated: May 11, 2006.
Anna Snouffer,
Acting Director, Office of Federal Advisory Committee Policy.

[FR Doc. 06-4673 Filed 5-18-06; 8:45 am]

BILLING CODE 4140-01-M